DEPARTMENT OF THE INTERIOR

Fish and Wildlife Service

[FWS-R5-R-2012-N136: BAC-4311-K9-S3]

Nantucket National Wildlife Refuge, Nantucket, MA; Final Comprehensive Conservation Plan and Finding of No Significant Impact

AGENCY: Fish and Wildlife Service, Interior.

ACTION: Notice of availability.

SUMMARY: We, the U.S. Fish and Wildlife Service (Service), announce the availability of our final comprehensive conservation plan (CCP), finding of no significant impact (FONSI), and land protection plan (LPP) for Nantucket National Wildlife Refuge (NWR, refuge) in Nantucket, Massachusetts. Nantucket NWR is part of the Eastern Massachusetts NWR Complex, administered from Sudbury, Massachusetts. In this final CCP, we describe how we will manage the refuge for the next 15 years.

ADDRESSES: You may view or obtain copies of the final CCP and FONSI by any of the following methods. You may request a hard copy or a CD-ROM.

Agency Web site: Download a copy of the document at http://www.fws.gov/northeast/planning/nantucket/ccphome.html.

Email: Send requests to northeastplanning@fws.gov. Include “Nantucket Refuge CCP” in the subject line of your message.

Mail: Carl Melberg, Natural Resource Planner, U.S. Fish and Wildlife Service, 73 Weir Hill Road, Sudbury, MA 01776.

Fax: Attention: Carl Melberg, 978-443-2898.

In-Person Viewing or Pickup: Call 978-443-4661 to make an appointment during regular business hours at the Sudbury office, 73 Weir Hill Road, Sudbury, MA 01776.

FOR FURTHER INFORMATION CONTACT: Libby Herland, Refuge Manager, Nantucket NWR, 73 Weir Hill Road, Sudbury, MA 01776; 978-443-4661 (phone); 978-443-2898 (fax); libby_herland@fws.gov (email).

SUPPLEMENTARY INFORMATION:

Introduction

With this notice, we finalize the CCP process for Nantucket NWR. We started this process through a notice in the Federal Register (64 FR 9166; February 24, 1999), announcing we were preparing a CCP and environmental impact statement (EIS) for all eight refuges in what was then known as the Great Meadows NWR Complex. In 2001, we determined it was not feasible to prepare a single CCP for all eight refuges, and thus prepared another notice in the Federal Register (66 FR 10506; February 15, 2001), to indicate that a separate CCP/environmental assessment (EA) would be prepared for Great Meadows, Assabet River, and Oxbow NWRs. We planned to prepare a separate CCP for the other five refuges in the refuge complex, including Nantucket NWR. However, in 2008, because of the different issues facing those five refuges, the Service determined it was more efficient to proceed through the CCP process for each refuge separately, and published a notice in the Federal Register (73 FR 18806; April 7, 2008), to begin a separate CCP/EA process for Nantucket NWR. We released the draft CCP/EA for Nantucket NWR to the public, announcing and requesting comments in a notice of availability in the Federal Register on August 2, 2011 (76 FR 46317).

The Service established Nantucket NWR in 1973, under an Act Authorizing the Transfer of Certain Real Property for Wildlife, or other Purposes (16 U.S.C. 667b, Pub. L. 80-537), which authorized the U.S. Coast Guard (USCG) to transfer the property to the Service because of “its particular value in carrying out the Migratory Bird Act.” The USCG currently maintains control of a 1-acre inholding on the refuge that contains the Great Point Lighthouse. Nantucket NWR lies at the northern tip of the Coskata-Coatue Peninsula, which is also known as Great Point. The peninsula is at the northernmost point of Nantucket Island.

The only access to the refuge by land is through The Trustees of Reservations' (TTOR) Coskata-Coatue Refuge and Nantucket Conservation Foundation (NCF) properties from the south. The refuge erodes and accretes constantly, but averages 21 acres in size. The refuge is a barrier beach system where two longshore currents meet to form a rip current. The refuge is composed of beach and dune habitat that supports a diversity of sea and land birds of conservation concern, including common and roseate terns, piping plover, and American oystercatcher, and Federal trust marine mammals, such as gray seals.

We announce our decision and the availability of the FONSI for the final CCP for Nantucket NWR in accordance with National Environmental Policy Act (NEPA) (42 U.S.C. 4321 et seq.) requirements. We completed a thorough analysis of impacts on the human environment, which we included in the draft CCP/EA.

The CCP will guide us in managing and administering Nantucket NWR for the next 15 years. Alternative B, as described for the refuge in the draft CCP/EA, and with the modifications described below, is the foundation for the final CCP.

Background

The National Wildlife Refuge System Administration Act of 1966 (16 U.S.C. 668dd-668ee) (Refuge Administration Act), as amended by the National Wildlife Refuge System Improvement Act of 1997, requires us to develop a CCP for each NWR. The purpose for developing a CCP is to provide refuge managers with a 15-year plan for achieving refuge purposes and contributing toward the mission of the National Wildlife Refuge System (NWRS), consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

CCP Alternatives, Including the Selected Alternative

Our draft CCP/EA (76 FR 46317) addressed several key issues, including:

• Providing habitat protection and management for federally endangered and threatened species and other protected wildlife.

• Maintaining a balance between resource protection and beach access, and determining compatibility for recreational uses.

• Increasing education and interpretation of the resources, and increasing communications about management decisions.

• Cooperating in land management with adjacent land managers and planning for future land acquisition opportunities.

• Creating a protocol for ensuring cultural resource protection.

To address these issues and develop a plan based on the refuge's establishing purposes, vision, and goals, we evaluated three alternatives for Nantucket NWR in the draft CCP/EA. The alternatives for Nantucket NWR have some actions in common, such as protecting the beach and dune habitat and the bird species of conservation concern using this habitat, providing wildlife-dependent priority public uses when compatible, reducing impacts from climate change, protecting cultural resources, and distributing refuge revenue sharing payments to the town of Nantucket, Massachusetts. There are other actions that differ among the alternatives. The draft CCP/EA describes each alternative in detail and relates them to the issues and concerns that arose during the planning process. Below, we provide summaries for the three alternatives evaluated in the draft CCP/EA.

Alternative A (Current Management)

This alternative is the “No Action” alternative required by the National Environmental Policy Act (42 U.S.C. 4321 et seq). It defines our current management activities, including those planned, funded, or underway, and serves as the baseline against which to compare alternatives B and C. This alternative describes current refuge programs on the 21-acre refuge for habitat management, fish and wildlife inventories and monitoring, administrative infrastructure and staffing, and visitor services. Under this alternative, TTOR would continue to provide onsite management of Nantucket NWR, and the Service would continue its passive management role and minimal presence on the refuge. The remote location of the refuge, along with limited staffing and funding resources, restricts our ability to maintain a consistent presence, or to actively oversee and implement management actions. Instead, we would continue to coordinate with TTOR for installing symbolic fencing and implementing beach closures to protect breeding and staging birds and seal haul-out sites on the refuge.

Under alternative A, the Service would maintain oversight, but visitor services programs would continue to be implemented primarily by partners, such as TTOR. Priority public uses, such as wildlife observation, photography, environmental education, interpretation, and fishing are currently allowed on the refuge and would continue where beach access is permitted. Hunting is the only priority public use that is not allowed on the refuge due to the refuge's small size and habitat types. Under this alternative, all staff would continue to be stationed at the Eastern Massachusetts NWR Complex headquarters in Sudbury, Massachusetts. We would continue discussions to pursue a partnership agreement with TTOR, which would include resource management, visitor use, and shared funding sources to help contribute to refuge operations.

Alternative B (Enhanced Wildlife and Visitor Services Emphasis)

This is the Service-preferred alternative. It combines the actions we believe would best achieve the refuge's purposes, vision, and goals, and the intent of NWRS policy on Biological Integrity, Diversity, and Environmental Health (601 FW 3). This alternative would also best respond to the issues that arose during the planning process. Alternative B would improve our management of refuge habitats and species of conservation concern, with increased Service presence on the existing 21-acre refuge, and on the additional 2,036 acres proposed for Service acquisition from willing sellers in fee or easement, or as a no-cost transfer from other Federal agencies. It strives to provide a balance between habitat and species conservation and public use and access. It would enhance partnerships with local conservation organizations and civic groups.

Under this alternative, the Service would take a more active role in habitat and species management on the refuge, targeting the protection of dynamic coastal beach and dune systems and the species that rely on them for critical nesting, resting, foraging, and staging habitat. The additional protection proposed may result in increased public recreational access restrictions or closures on the refuge during certain seasons or in some years.

We would also continue to work closely with TTOR, NCF, and our other partners to accomplish biological program priorities with an emphasis on landscape-level conservation and more consistent management between peninsula partners. A draft LPP, which requires Director's approval before it can be implemented, was included as Appendix G in the draft CCP/EA. The LPP proposes that 2,036 acres of high resource value be acquired for the refuge if willing sellers are available.

Under alternative B, we would establish public use zones that would allow some increased public use opportunities in certain areas where wildlife are less likely to be disturbed, with an emphasis on providing fishing, wildlife observation, environmental education, and interpretation. An increase in opportunities would also be accomplished by working with partners to monitor wildlife use and offer visitor programs. We propose to add a part-time, year-round visitor services specialist and a full-time biologist stationed on Nantucket Island, and a new law enforcement officer stationed at Monomoy NWR in Chatham, Massachusetts.

Alternative C (Emphasis on Wildlife Diversity and Natural Processes)

This alternative would focus on managing wildlife diversity and natural coastal processes. It would emphasize species and habitat protection on the refuge through actions such as not allowing over-sand vehicles for fishing access on most of the refuge during April 1 through September 15. Staff would monitor and evaluate nesting success and productivity for priority bird species of conservation concern. Alternative C includes expanding current management and staffing over the next 15 years on the refuge. It would also involve targeted fee and easement acquisition of excess and surplus Federal lands and other key conservation properties on Nantucket Island as opportunities arise. Visitor services would be similar to those under alternative B, except for the longer, more restrictive over-sand vehicle closure zones. Similar to alternative B, this alternative proposes a joint visitor facility with TTOR and NCF, as well as increased visitor services programming and opportunities through partners.

Comments

We solicited comments on the draft CCP/EA for Nantucket NWR from August 2 to October 1, 2011 (76 FR 46317). During the comment period, we received 38 written responses. We evaluated all of the substantive comments we received, and include a summary of those comments, and our responses to them, as Appendix J in the final CCP.

Selected Alternative

After considering the comments we received on our draft CCP/EA, we have made several minor changes to alternative B. These changes are described in the final CCP in the FONSI (Appendix L) and in Appendix J.

We have selected alternative B to implement for Nantucket NWR, with these minor changes, for several reasons. Alternative B comprises a mix of actions that, in our professional judgment, work best towards achieving the refuge's purposes, vision, and goals; NWRS policies; and the goals of other State and regional conservation plans. Our ability to achieve conservation goals is further enhanced with the land protection plan (LPP) included in alternative B. The LPP was approved by the Service's Director on January 15, 2013. We also believe that alternative B most effectively addresses key issues raised during the planning process. The basis of our decision is also detailed in the FONSI.

Public Availability of Documents

You can view or obtain the final CCP, including the FONSI, as indicated under ADDRESSES.

Dated: February 18, 2013.
Deborah Rocque,
Acting Regional Director, Northeast Region.

[FR Doc. 2013-07937 Filed 4-4-13; 8:45 am]

BILLING CODE 4310-55-P